SURFACE TRANSPORTATION BOARD

[Docket No. FD 36126]

Chicago Rail & Port, LLC— Lease and Operation Exemption—Rail Line of South Chicago Property Development, LLC

Chicago Rail & Port, LLC (CRP), a noncarrier, has filed a verified notice of exemption under 49 CFR 1150.31 to acquire by lease from South Chicago Property Development, LLC (SCPD) and to operate,¹ approximately 3,797 linear feet (0.72 mile) of railroad right-of-way and trackage and transloading facilities located at the northeast corner of the intersection of 106th Street and the Calumet River in Chicago, Ill. (the Chicago Transload Facility trackage), pursuant to an agreement.

¹ A draft copy of the operating agreement was submitted with the notice of exemption.

According to CRP, there are no mileposts associated with the Chicago Transload Facility trackage. CRP states that the trackage is used to transload gravel and other stone products (including railroad stone ballast), and aggregate materials from water to rail. The trackage is used in conjunction with interchanging to and from the Indiana Harbor Belt Railroad Company.

CRP asserts that because the trackage in question will constitute the entire line of railroad of CRP, this trackage is a line of railroad under 49 U.S.C. 10901, rather than spur, switching or side tracks excepted from Board acquisition and operation authority by virtue of 49 U.S.C. 10906.²

² See Effingham R.R.—Pet. for Declaratory Order—Constr. at Effingham, IL, NOR 41986 et al. (STB served Sept. 18, 1998), aff'd sub nom. United Transp. Union-Ill. Legislative Bd. v. STB, 183 F.3d 606 (7th Cir. 1999).

Although CRP states in its verified notice that the operations were proposed to be consummated on or about June 1, 2017, this transaction may not be consummated until August 5, 2017 (30 days after the verified notice was officially filed).³

³ CRP initially filed its verified notice of exemption on June 14, 2017. CRP filed letters supplementing and clarifying its verified notice on June 20, 2017, and July 6, 2017, respectively. Therefore, July 6, 2017, is the official filing date.

CRP certifies that its projected annual revenues as a result of this transaction do not exceed those that would qualify it as a Class III rail carrier and will not exceed $5 million. CRP also certifies that there are no provisions or agreements that may limit future interchange commitments.

If the verified notice contains false or misleading information, the exemption is void ab initio. Petitions to revoke the exemption under 49 U.S.C. 10502(d) may be filed at any time. The filing of a petition to revoke will not automatically stay the effectiveness of the exemption. Petitions to stay must be filed no later than July 28, 2017 (at least seven days before the exemption becomes effective).

An original and 10 copies of all pleadings, referring to Docket No. FD 36126, must be filed with the Surface Transportation Board, 395 E Street SW., Washington, DC 20423-0001. In addition, a copy of each pleading must be served on CRP's representative, David C. Dillon, Dillon & Nash, Ltd., 3100 Dundee Road, Suite 508, Northbrook, IL 60062.

According to CRP, this action is categorically excluded from environmental review under 49 CFR 1105.6(c).

Board decisions and notices are available on our Web site at “WWW.STB.GOV.”

Decided: July 18, 2017.
By the Board, Rachel D. Campbell, Director, Office of Proceedings.
Kenyatta Clay,
Clearance Clerk.

[FR Doc. 2017-15365 Filed 7-20-17; 8:45 am]

BILLING CODE 4915-01-P